DEPARTMENT OF ENERGY

Federal Energy Regulatory Commission

Combined Notice of Filings #1

Take notice that the Commission received the following electric rate filings:

Docket Numbers: ER10-3079-020; ER11-2539-007; ER11-2540-007; ER11-2542-007.

Applicants: Rathdrum Power, LLC, Plains End II, LLC, Plains End, LLC, Tyr Energy LLC.

Description: Triennial Market Power Analysis for Northwest Region of Tyr Energy, LLC, et al.

Filed Date: 12/29/22.

Accession Number: 20221229-5347.

Comment Date: 5 p.m. ET 2/27/23.

Docket Numbers: ER11-4267-021; ER10-2414-017; ER11-113-015; ER11-4269-013; ER11-4694-011; ER12-1680-012; ER12-2007-002; ER14-1288-001; ER17-2084-005; ER20-967-003; ER21-44-005; ER22-937-002; ER22-938-002.

Applicants: New Market Solar ProjectCo 2, LLC, New Market Solar ProjectCo 1, LLC, Altavista Solar, LLC, Great Bay Solar II, LLC, Great Bay Solar I, LLC, Liberty Utilities (Granite State Electric) Corp., Algonquin Tinker Gen Co., Algonquin Windsor Locks LLC, Algonquin Energy Services Inc., Minonk Wind, LLC, GSG 6, LLC, Sandy Ridge Wind, LLC, Old Trail Wind Farm, LLC.

Description: Triennial Market Power Analysis for Northeast Region of Algonquin Energy Services Inc., et al.

Filed Date: 12/29/22.

Accession Number: 20221229-5346.

Comment Date: 5 p.m. ET 2/27/23.

Docket Numbers: ER22-2048-002.

Applicants: Skipjack Solar Center, LLC.

Description: Compliance filing: Response to Deficiency in ER22-2048 to be effective 6/8/2022.

Filed Date: 1/3/23.

Accession Number: 20230103-5046.

Comment Date: 5 p.m. ET 1/24/23.

Docket Numbers: ER23-759-000.

Applicants: Sempra Gas & Power Marketing, LLC.

Description: Market: Sempra Gas &amp; Power Marketing Triennial/MBR Filing to be effective 1/4/2023.

Filed Date: 1/3/23.

Accession Number: 20230103-5213.

Comment Date: 5 p.m. ET 3/6/23.

Docket Numbers: ER23-761-000.

Applicants: Southwest Power Pool, Inc.

Description: § 205(d) Rate Filing: 607R43 Evergy Kansas Central, Inc. NITSA NOA to be effective 12/1/2022.

Filed Date: 1/3/23.

Accession Number: 20230103-5342.

Comment Date: 5 p.m. ET 1/24/23.

Docket Numbers: ER23-762-000.

Applicants: The Dayton Power and Light Company, PJM Interconnection, L.L.C.

Description: § 205(d) Rate Filing: The Dayton Power and Light Company submits tariff filing per 35.13(a)(2)(iii: The Dayton Power and Light Co. Application for CWIP and Abandonment Incentives to be effective 3/5/2023.

Filed Date: 1/3/23.

Accession Number: 20230103-5345.

Comment Date: 5 p.m. ET 1/24/23.

Docket Numbers: ER23-763-000.

Applicants: Southwest Power Pool, Inc.

Description: § 205(d) Rate Filing: 3125R13 Basin Electric Power Cooperative NITSA and NOA to be effective 12/1/2022.

Filed Date: 1/3/23.

Accession Number: 20230103-5366.

Comment Date: 5 p.m. ET 1/24/23.

Docket Numbers: ER23-764-000.

Applicants: The Dayton Power and Light Company.

Description: Dayton Power and Light Company submits an Application of Incentive Rate Treatment for the Construction of Transmission Projects Required for NERC Reliability Criteria and other reliability improvements to the AES Ohio transmission system.

Filed Date: 12/30/22.

Accession Number: 20221230-5384.

Comment Date: 5 p.m. ET 1/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 3, 2023.
Debbie-Anne A. Reese,
Deputy Secretary.

[FR Doc. 2023-00155 Filed 1-6-23; 8:45 am]

BILLING CODE 6717-01-P